FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Atlanta Customs Brokers & Intl Freight Forwarders Inc dba ACB Ocean Services (NVO & OFF), 650 Atlanta South Parkway, Suite 104, Atlanta, GA 30349, Officers: Kathy Williams, Vice President, Exports (QI), Deborah Torma, President, Application Type: New NVO & OFF License

AZ Freight Inc. (NVO & OFF), 6610 149th Street, Suite 6H, Flushing, NY 11367, Officers: Tingyi Jiang, President (QI), Yunzhi Gu, Treasurer, Application Type: New NVO & OFF License

Engineering & Trade, Inc. (OFF), 5701 NW 112th Court, Doral, FL 33178, Officer: Jairo E. Leon, President (QI), Application Type: New OFF License

Estes Forwarding Worldwide LLC (NVO & OFF), 1100 Commerce Road, Richmond, VA 23224, Officers: Glenn J. Calvino, Vice President (QI), Scott Fisher, President, Application Type: QI Change

Goldstar Global Logistic LLC (NVO & OFF), 154-09 146th Avenue, 3rd Floor, Jamaica, NY 11434, Officer: Kunj B. Kalra, President (QI), Application Type: Add OFF Service

Hercules Packing Shipping & Moving Co., Inc. (NVO), 34-23 31st Street, 1st Floor, Astoria, NY 11106, Officer: Gus Dourmas, President, Application Type: Name Change to Iraklis Packing Shipping & Moving Co., Inc.

Jumbo Transport International, Inc. (NVO & OFF), 1201 Corbin Street, Elizabeth, NJ 07201, Officers: Steven Cataldo, President (QI), Reinhard Eckhoff, Chairman, Application Type: QI Change

M E Dey Cargo Corporation dba Orient Grace Container Line (NVO & OFF), 510 Plaza Drive, Suite 1210, Atlanta, GA 30349, Officers: John Davis, Secretary (QI), Debra A. Watmore, President, Application Type: Name Change to Dey Cargo Corporation, dba Orient Grace Container Line and QI Change

McLimex, LLC (OFF), 502 N. Division Street, Carson City, NV 89703, Officers: Bernard Vo, Member (QI), Minh Nguyen, Member, Application Type: Name Change to Mbequip, LLC

Pole Star Shipping Inc (NVO & OFF), 65 Demarest Drive, Manalapan, NJ 07726, Officers: Angela Simeone, Secretary (QI), Ashwani Sharma, President, Application Type: New NVO & OFF License

Roadrunner Holdings, L.L.C. dba Roadrunner, Ltd. dba Roadrunner Moving & Storage (OFF), 12425 Chimney Rock Road, Houston, TX 77035, Officers: Benjamin Breedlove, Vice President (QI), Robert McGowen, Chairman, Application Type: QI Change

Dated: February 1, 2013.
By the Commission.
Karen V. Gregory,
Secretary.

[FR Doc. 2013-02679 Filed 2-5-13; 8:45 am]

BILLING CODE 6730-01-P